DEPARTMENT OF AGRICULTURE

Forest Service

Mt. Hood National Forest; Oregon; Cooper Spur—Government Camp Land Exchange

AGENCY: Forest Service, USDA.

ACTION: Notice of intent to prepare an environmental impact statement.

SUMMARY: The Mt. Hood National Forest will prepare an environmental impact statement to document and disclose the projected effects of a congressionally directed and conditioned land exchange. This land exchange includes the conveyance of approximately 110 acres of National Forest System lands adjacent to Government Camp in Clackamas County, Oregon, in exchange for the acquisition of approximately 765 acres of land owned by Mt. Hood Meadows Oreg., LLC, in Hood River County, Oregon.

DATES: Comments concerning the scope of the analysis must be received by March 17, 2016. The draft environmental impact statement is expected November 2016 and the final environmental impact statement is expected January 2018.

ADDRESSES: Send written comments to the Mt. Hood National Forest, 16400 Champion Way, Sandy, OR 97055. Comments may also be sent via email to comments-pacificnorthwest-mthood@fs.fed.us, or via facsimile to (503) 668-1423.

FOR FURTHER INFORMATION CONTACT: Michelle Lombardo, Forest Environmental Coordinator, Mt. Hood National Forest, at (503) 668-1796 or by email at mlombardo@fs.fed.us. Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the congressionally directed and conditioned land exchange between the Mt. Hood National Forest and the Mt. Hood Meadows Oregon, LLC, is to comply with and carry out the Omnibus Public Land Management Act of March 30, 2009 (123 Stat. 991, Pub. L. 111-11), which provides direction for this land exchange.

Proposed Action

The proposed action includes the conveyance of two parcels of National Forest System lands, totaling approximately 110 acres, in exchange for the acquisition of approximately 765 acres of land owned by Mt. Hood Meadows. The Federal land proposed for conveyance is located to the north of the Government Camp Loop Road in Government Camp, Oregon, in T3S, R8E, sections 13 & 24, and T3S, R8.5E, section 14 in Clackamas County. The land owned by Mt. Hood Meadows that is proposed for acquisition is located about one-half mile to the west of Highway 35 in the vicinity of the Cooper Spur Ski Area in T2S, R10E, sections 6 & 7, T1S, R10E, Sections 30 & 31, and T1S, R9E, Section 36 in Hood River County.

The Omnibus Act (Section 1206(a)(2)(G)) prescribes as a condition to the land exchange that the Forest Service reserve wetland and trail easements on the Federal parcels to be exchanged. More specifically, the Omnibus Act requires the U.S. to reserve a conservation easement on the Federal land to protect existing wetland, as identified by the Oregon Department of State Lands, that allows equivalent wetland mitigation measures to compensate for minor wetland encroachments necessary for the orderly development of that land following the exchange. The Omnibus Act also requires the U.S. to reserve a trail easement on the Federal land that allows non-motorized use by the public of existing trails; roads, utilities, and infrastructure facilities to cross the trails; and improvement or relocation of the trails to accommodate development of the Federal land. The Omnibus Act also provides that, on completion of the land exchange, additional lands would be considered part of the Mt. Hood Wilderness and that the Crystal Springs Watershed Special Resource Management Unit would be created.

The environmental impact statement to be prepared will also consider a proposed amendment to the the Mt. Hood National Forest Land and Resources Management Plan (1990), as amended by the Northwest Forest Plan (1994), that will be necessary to assign land use allocations to the acquired lands, change the land use allocations for the new Tilly Jane Wilderness Addition and the Crystal Springs Watershed Special Resource Management Unit, and add standards and guidelines for the Crystal Springs Watershed Special Resource Management Unit upon its creation.

Possible Alternatives

A bill, referred to as the “Mount Hood Cooper Spur Land Exchange Clarification Act,” has been introduced in the U.S. Congress that would amend the Omnibus Act to modify certain conditions of the land exchange as described in the proposed action. The proposed modifications set forth in the bill will be analyzed in the environmental impact statement as appropriate, depending upon future congressional developments regarding its status.

Responsible Official

The Responsible Official for this project is the Mt. Hood Forest Supervisor.

Nature of Decision To Be Made

The Responsible Official will decide whether to adopt and implement the proposed action, an alternative to the proposed action, or take no action. It should be noted that, in this context, this decision is necessarily informed and constrained by the Omnibus Act, which provides direction for the proposed action, and therefore, if the Responsible Official finds the congressionally-mandated conditions are satisfied, the Forest Service will execute the land exchange.

Preliminary Issues

A preliminary analysis of potential effects revealed the following preliminary issues:

(1) Camp Creek and an intermittent tributary of Camp Creek run through the Federal parcels. Neither reach of the stream is fish-bearing. Camp Creek is not 303(d)-listed under the Clean Water Act, but it does have water quality issues associated with Government Camp (such as sewage and runoff from the roads). Depending on the type and quality of development that might occur on the parcels after the exchange, the water quality could further decrease. However, the impacts of development should be lessened by the congressionally-mandated conservation easement on the wetland, through which the streams flow. Detailed information is not available regarding fisheries or water quality on the non-Federal parcel.

(2) Surveys for wetlands and floodplains on both parcels have been completed. Wetlands are present on the Federal parcels, and narrow, stream-associated wetlands exist on the non-Federal parcel. It appears that the Forest Service will be conveying more wetlands than would be acquired. In the Omnibus Act (Section 1206(a)(G)(i)), however, Congress mandated that a conservation easement be placed upon the wetlands at Government Camp. The Act directs that the easement protect the wetland and allow for equivalent wetland mitigation measures necessary for the orderly development of the conveyed land. The acquisition of the wetlands at Cooper Spur and the easement on the wetlands at Government Camp may therefore result in no net loss of wetlands.

(3) A cultural and heritage resource survey was conducted on the Federal parcel. The survey revealed the potential for an adverse effect to a site of archaeological/cultural interest. Mitigation measures will be developed with Tribal and State Historic Preservation Officer (SHPO) consultation.

(4) Trails 755, 755A, and 755B cross the Federal parcels. A trail easement has been congressionally mandated so that non-motorized users would continue to be able to use the trails to get to Federal land, so that roads, utilities, and infrastructure facilities could be built across the trails, and to allow for improvement or relocation of the trails so that development of the conveyed parcels could occur. While the trails (or relocated trails) would still exist, the recreation experience could be negatively impacted by new development (such as buildings and parking lots) or the presence of new infrastructure.

Scoping Process

This notice of intent initiates the scoping process, which guides the development of the environmental impact statement. It is important that reviewers provide their comments at such times and in such manner that they are useful to the agency's preparation of the environmental impact statement. Therefore, comments should be provided prior to the close of the comment period and should clearly articulate the reviewer's concerns and contentions. Comments received in response to this solicitation, including names and addresses of those who comment, will be part of the public record for this proposed action. Comments submitted anonymously will be accepted and considered, however.

Dated: February 9, 2016.
Lisa A. Northrop,
Mt. Hood Forest Supervisor.

[FR Doc. 2016-03047 Filed 2-12-16; 8:45 am]

BILLING CODE 3410-11-P